DEPARTMENT OF AGRICULTURE

Rural Utilities Service

[Docket No. RUS-24-ELECTRIC-0026]

60-Day Notice of Proposed Information Collection: Electric System Construction Policies and Procedures; OMB Control No.: 0572-0107

AGENCY: Rural Utilities Service, USDA.

ACTION: Notice; request for comments.

SUMMARY: In accordance with the Paperwork Reduction Act of 1995, this notice announces the Rural Utilities Service (RUS) intention to request a revision of a currently approved information collection and invites comments on this information collection.

DATES: Comments on this notice must be received by December 9, 2024, to be assured of consideration.

ADDRESSES: Comments may be submitted through the Federal eRulemaking Portal: Go to http://www.regulations.gov and, in the “Search Field” box, labeled “Search for dockets and documents on agency actions,” enter the following docket number: (RUS-24-ELECTRIC-0026), and click “Search.” To submit public comments, select the “Comment” button. Before inputting your comments, you may also review the “Commenter's Checklist” (optional). Insert your comments under the “Comment” title, click “Browse” to attach files (if applicable). Input your email address and select an identity category then click “Submit Comment.” Information on using Regulations.gov, including instructions for accessing documents, submitting comments, and viewing the docket after the close of the comment period, is available through the site's “FAQ” link.

FOR FURTHER INFORMATION CONTACT: MaryPat Daskal, Chief, Branch 1, Rural Development Innovation Center—Regulations Management Division, U.S. Department of Agriculture, 1400 Independence Avenue SW, STOP 1522, South Building, Washington, DC 20250-1522. Telephone: (202) 720-7853. Email: MaryPat.Daskal@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that RUS is submitting to OMB for revision.

Title: 7 CFR 1726, Electric System Construction Policies and Procedures.

OMB Control Number: 0572-0107.

Expiration Date of Approval: January 31, 2025.

Type of Request: Revision of a currently approved collection.

Estimate of Burden: Public reporting burden for this collection of information is estimated to average .025 hours per response.

Respondents: Businesses or other for profits; Not-for-profit institutions.

Estimated Number of Respondents: 477.

Estimated Number of Responses per Respondent: 6.9.

Estimated number of Total Responses: 3,319.

Estimated Total Annual Burden on Respondents: 82 hours.

Abstract: To facilitate the programmatic interest of the Rural Electrification Act of 1936, 7 U.S.C. 901, et seq. (RE Act), and, in order to assure that loans made or guaranteed by RUS are adequately secured, RUS, as a secured lender, has established certain standards and specifications for materials, equipment, and construction of electric systems. The use of standard forms, construction contracts, and procurement procedures helps assure that appropriate standards and specification are maintained, that RUS' loan security is not adversely affected, and the loan and loan guarantee funds are used effectively and for the intended purposes. The list of forms and corresponding purposes for this information collection are as follows:

1. RUS Form 168b, Contractor's Bond. This form is used to provide a surety bond for contracts on RUS Forms 200, 257, 786, 790, & 830.

2. RUS Form 168c, Contractor's Bond (less than $1 million). This form is used to provide a surety bond in lieu of RUS Form 168b, when contractor's surety has accepted a small business administration guarantee.

3. RUS Form 187, Certificate of Completion-Contract Construction. This form is used for the closeout of RUS Forms 200, 257, 786, and 830.

4. RUS Form 198, Equipment Contract. This form is used for equipment purchases.

5. RUS Form 200, Construction Contract-Generating. This form is used for generating plant construction or for the furnishing and installation of major items of equipment.

6. RUS Form 213, Certificate (“Buy American”). This form is used to document compliance with the “Buy American” requirement.

7. RUS Form 224, Waiver and Release of Lien. This form is used by subcontractors to provide a release of lien in connection with the closeout of RUS Forms 198, 200, 257, 786, 790, and 830.

8. RUS Form 231, Certificate of Contractor. This form is used for the closeout of RUS Forms 198, 200, 257, 786, and 830.

9. RUS Form 238, Construction or Equipment Contract Amendment. This form is used to amend contracts except for distribution line construction contracts.

10. RUS Form 254, Construction Inventory. This form is used to document the final construction in connection with the closeout of RUS Form 830.

11. RUS Form 257, Contract to Construct Buildings. This form is used to construct headquarter buildings, generating plant buildings, and other structure construction.

12. RUS Form 307, Bid Bond. This form is used to provide a bid bond in RUS Forms 200, 257, 786, 790 and 830.

13. RUS Form 786, Electric System Communications and Control Equipment Contract. This form is used for delivery and installation of equipment for system communications.

14. RUS Form 790, Electric System Construction Contract Non-Site Specific Construction (Notice and Instructions to Bidders). This form is used for limited distribution construction accounted for under work order procedure.

15. RUS Form 792b, Certificate of Contractor and Indemnity Agreement (Line Extensions). This form is used in the closeout of RUS Form 790.

16. RUS Form 830, Electric System Construction Contract (labor & material). This form is used for distribution and/or transmission project construction.

Comments are invited on: (a) whether the proposed collection of information is necessary for the proper performance of the functions of the Agency, including whether the information will have practical utility; (b) the accuracy of the Agency's estimate of the burden of the collection including the validity of the methodology and assumptions used; (c) ways to enhance the quality, utility, and clarity of the information to be collected; and (d) ways to minimize the burden of the collection of information on those who are to respond, including through the use of appropriate automated, electronic, mechanical, or other technological collection techniques or other forms of information technology.

Copies of this information collection can be obtained from Kimble Brown, Rural Development Innovation Center, Regulations Management Division, at Kimble.brown@usda.gov. All responses to this notice will be summarized and included in the request for OMB approval. All comments will also become a matter of public record.

Andrew Berke,
Administrator, Rural Utilities Service.

[FR Doc. 2024-23477 Filed 10-9-24; 8:45 am]

BILLING CODE 3410-15-P